DEPARTMENT OF JUSTICE

Antitrust Division

Notice Pursuant to the National Cooperative Research and Production Act of 1993—IPC—Association Connecting Electronics Industries

Notice is hereby given that, on September 14, 2004, pursuant to section 6(a) of the National Cooperative Research and Production Act of 1993, 15 U.S.C. 4301 et seq. (“the Act”), IPC—Association Connecting Electronics Industries (“IPC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: IPC—Association Connecting Electronics Industries, Bannockburn, IL. The nature and scope of IPC's standards development activities are: design and performance standards for all types of interconnections, including printed wiring boards, flexible circuits, flat cable and discrete wiring devices. In addition, IPC develops standards for materials used in these products. Also, IPC is involved in standards for computer-aided technology, used to define electronic description. IPC is therefore also involved not only in the development of product standards, but in standardization and in guidelines that will impact the electronic packaging community.

Dorothy B. Fountain,
Deputy Director of Operations, Antitrust Division.

[FR Doc. 04-23516 Filed 10-20-04; 8:45 am]

BILLING CODE 4410—11—M